FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
017649NF | Access Freight Forwarders, Inc., 8220 NW 30th Terrace, Miami, FL 33122 | July 1, 2004.
018516N | K.E.I. Enterprise dba KEI Logix, 249 E. Redondo Beach, Gardena, CA 90248 | August 4, 2004.
001727F | Lysan Forwarding Company, Inc., 5220 NW 72nd Avenue, Bay 34, Miami, FL 33166 | August 5, 2004.

Sandra L. Kusumoto,
Director, Bureau of Certification and Licensing.

[FR Doc. 04-21214 Filed 9-20-04; 8:45 am]

BILLING CODE 6730-01-P